NUCLEAR REGULATORY COMMISSION

[Docket No. 50-305; NRC-2008-0484]

Dominion Energy Kewaunee, Inc.; Kewaunee Power Station; Notice of Issuance of Renewed Facility Operating License No. DPR-43 for an Additional 20-Year Period; Record of Decision

Notice is hereby given that the U.S. Nuclear Regulatory Commission (NRC, the Commission) has issued a renewed facility operating license No. DPR-43 to Dominion Energy Kewaunee, Inc. (licensee), the operator of the Kewaunee Power Station (KPS). Renewed facility operating license No. DPR-43 authorizes operation of KPS by the licensee at reactor core power levels not in excess of 1772 megawatts thermal, in accordance with the provisions of the KPS renewed license and its technical specifications.

The notice also serves as the record of decision for the renewal of facility operating license No. DPR-43, consistent with Title 10 of the Code of Federal Regulations Section 51.103 (10 CFR 51.103). As discussed in the final supplemental environmental impact statement (FSEIS) for KPS, dated August 2010, the Commission has considered a range of reasonable alternatives that included supercritical coal-fired generation; natural gas combined-cycle generation; a combination of conservation, efficiency, wood-fired generation, and wind power; and non-renewal of the operating license. The factors considered in the record of decision can be found in the supplemental environmental impact statement (SEIS) for KPS.

KPS is a pressurized-water reactor located near the Town of Carlton, Wisconsin. The application for the renewed license complied with the standards and requirements of the Atomic Energy Act of 1954, as amended (the Act), and the Commission's regulations. As required by the Act and the Commission's regulations in 10 CFR Chapter I, the Commission has made appropriate findings, which are set forth in the license. Prior public notice of the action involving the proposed issuance of the renewed license and of an opportunity for a hearing regarding the proposed issuance of the renewed license was published in the Federal Register on October 1, 2008 (73 FR 57154).

For further details with respect to this action, see: (1) Dominion Energy Kewaunee, Inc. license renewal application for KPS dated August 12, 2008, as supplemented by letters through November 23, 2010; (2) the Commission's safety evaluation report (NUREG-1958), published in January 2011; (3) the licensee's updated safety analysis report; and (4) the Commission's final environmental impact statement (NUREG-1437, Supplement 40), for KPS, published in August 2010. These documents are available at the NRC's Public Document Room, One White Flint North, 11555 Rockville Pike, Rockville, Maryland 20852, and can be viewed from the NRC Public Electronic Reading Room at http://www.nrc.gov/reading-rm/adams.html.

Copies of renewed facility operating license No. DPR-43 may be obtained by writing to the U.S. Nuclear Regulatory Commission, Washington, DC 20555-0001, Attention: Director, Division of License Renewal. Copies of the KPS safety evaluation report (NUREG-1958) and the final environmental impact statement (NUREG-1437, Supplement 40) may be purchased from the National Technical Information Service, U.S. Department of Commerce, Springfield, Virginia 22161 (http://www.ntis.gov), 703-605-6000, or Attention: Superintendent of Documents, U.S. Government Printing Office, P.O. Box 371954, Pittsburgh, Pennsylvania 15250-7954 (http://www.gpoaccess.gov), 202-512-1800. All orders should clearly identify the NRC publication number and the requestor's Government Printing Office deposit account number or VISA or MasterCard number and expiration date.

Dated at Rockville, Maryland, this 24th day of February, 2011.
For the Nuclear Regulatory Commission.
David J. Wrona,
Chief, Projects Branch 2, Division of License Renewal, Office of Nuclear Reactor Regulation.

[FR Doc. 2011-4805 Filed 3-2-11; 8:45 am]

BILLING CODE 7590-01-P